DEPARTMENT OF HEALTH AND HUMAN SERVICES

National Institutes of Health

National Institute of Neurological Disorders and Stroke; Amended Notice of Meeting

Notice is hereby given of a change in the meeting of the Neurological Sciences and Disorders C, June 14, 2005, 8 a.m. to June 15, 2005, 5 p.m. Wyndham Washington, DC 1400 M Street, NW., Washington, DC 20005 which was published in the Federal Register on April 27, 2005, 70 FR Doc: 05-8413.

The meeting will be held for one day on June 14, 2005 from 8 a.m. to 5 p.m. The meeting is closed to the public.

Dated: May 27, 2005.
LaVerne Y. Stringfield,
Director, Office of Federal Advisory Committee Policy.

[FR Doc. 05-11222 Filed 6-6-05; 8:45 am]

BILLING CODE 4140-01-M